DEPARTMENT OF JUSTICE

Drug Enforcement Administration

Archibald W. Hutchinson, M.D.; Revocation of Registration

On July 28, 1999, the Deputy Assistant Administrator, Office of Diversion Control, Drug Enforcement Administration (DEA), issued an Order to Show Cause to Archibald W. Hutchinson, M.D., of Marietta, Ohio, notifying him of an opportunity to show cause as to why DEA should not revoke his DEA Certificate of Registration BH2898053 pursuant to 21 U.S.C. 824(a)(3), and deny any pending applications for renewal of such registration pursuant to 21 U.S.C. 823(f), for reason that he is not currently authorized to handle controlled substances in the State of Ohio. The order also notified Dr. Hutchinson that should not request for a hearing be filed within 30 days, his hearing right would be deemed waived.

The Order to Show Cause was sent to Dr. Hutchinson at his registered location. DEA received a signed receipt indicating that it was received and signed for by an individual on November 3, 1999. The Order to Show Cause was also sent to Dr. Hutchinson at his last known address in Illinois. The return receipt indicates that the Order to Show Cause was forwarded to another address in Illinois and was signed for on or about August 20, 1999. No request for a hearing or any other reply was received by the DEA from Dr. Hutchinson or anyone purporting to represent him in this matter. Therefore, the Deputy Administrator, finding that (1) 30 days have passed since the receipt of the Order to Show Cause, and (2) no request for a hearing having been received concludes that Dr. Hutchinson is deemed to have waived his hearing right. After considering material from the investigative file in this matter, the Deputy Administrator now enters his final order without a hearing pursuant to 21 CFR 1301.43(d) and (e) 1301.46. This final order replaces and supersedes the final order issued on January 3, 2000.

The Deputy Administrator finds that Dr. Hutchinson currently possesses DEA Certificate of Registration BH2898053 issued to him in Ohio. The Deputy Administrator further finds that on July 8, 1998, the State Medical Board of Ohio permanently revoked his license to practice medicine in the State of Ohio. Therefore, the Deputy Administrator concludes that Dr. Hutchinson is not currently licensed to practice medicine in Ohio, and as a result, it is reasonable to infer that he is not currently authorized to handle controlled substances in that state.

The DEA does not have the statutory authority under the Controlled Substances Act to issue or maintain a registration if the applicant or registrant is without state authority to handle controlled substances in the state in which he conducts his business. See 21 U.S.C. 802(21), 823(f) and 824(a)(3). This prerequisite has been consistently upheld. See Romeo J. Perez, M.D., 62 FR 16,193 (1997); Demetris A. Green, M.D., 61 FR 60,728 (1996); Dominick A. Ricci, M.D., 58 FR 51,104 (1993).

Here it is clear that Dr. Hutchinson is not currently authorized to handle controlled substances in the State of Ohio. As a result, he is not entitled to a DEA registration in that state.

Accordingly, the Deputy Administrator of the Drug Enforcement Administration, pursuant to the authority vested in him by 21 U.S.C. 823 and 824 and 28 CFR 0.100(b) and 0.104, hereby orders that DEA Certificate of Registration BH2898053, previously issued to Archibald W. Hutchinson, M.D., be, and it hereby is revoked. The Deputy Administrator further orders that any pending applications for the renewal of such registration, be, and they hereby are, denied. This order is effective March 6, 2000, and is considered the final agency action for appellate purposes pursuant to 21 U.S.C. 877.

Dated: January 18, 2000.
Donnie R. Marshall,
Deputy Administrator.

[FR Doc. 00-2527 Filed 2-3-00; 8:45 am]

BILLING CODE 4410-09-M